DEPARTMENT OF THE INTERIOR

Fish and Wildlife Service

[FWS-R8-2009-N0051; 1112-0000-80221-F2]

Paiute Cutthroat Trout Restoration Project Draft Environmental Impact Statement (EIS)/Environmental Impact Report (EIR)

AGENCY: Fish and Wildlife Service, Interior (Lead Agency); Forest Service, Agriculture (Cooperating Agency).

ACTION: Notice of availability.

SUMMARY: This notice announces the availability of the Paiute Cutthroat Trout Restoration Project Draft Environmental Impact Statement (EIS)/Environmental Impact Report (EIR) for public review and comment. We, the Fish and Wildlife Service (Service), along with the USDA Forest Service, Humboldt-Toiyabe National Forest (Cooperating Agency), and the California Department of Fish and Game (CDFG, California Environmental Quality Act lead agency) (collectively, the Agencies), are proposing to restore Paiute cutthroat trout to their historical range within the Silver King Creek watershed, Alpine County, California. To accomplish this, the Agencies must first eradicate the non-native and hybrid trout which currently occupy the habitat.

DATES: Written comments must be received by 5 p.m. on May 4, 2009.

ADDRESSES: Written comments should be addressed to Robert D. Williams, Field Supervisor, Nevada Fish and Wildlife Office, U.S. Fish and Wildlife Service, 1340 Financial Boulevard, Suite 234, Reno, Nevada 89502; fax number (775) 861-6301 (for further information and instructions on the reviewing and commenting process, see Public Comments section below).

FOR FURTHER INFORMATION CONTACT: Chad Mellison, Fish and Wildlife Biologist, Nevada Fish and Wildlife Office, U.S. Fish and Wildlife Service, 1340 Financial Boulevard, Suite 234, Reno, Nevada 89502; telephone (775) 861-6300.

SUPPLEMENTARY INFORMATION:

Availability of Documents

Individuals wishing copies of this draft EIS/EIR should contact the Service by telephone (see FOR FURTHER INFORMATION CONTACT). Copies of the subject document are also available for public inspection during regular business hours at the Nevada Fish and Wildlife Office (see FOR FURTHER INFORMATION CONTACT), and may be downloaded from the Nevada Fish and Wildlife Office Web site at: http://www.fws.gov/nevada/.

Background Information

The Paiute cutthroat trout was listed as endangered by the Service under the Endangered Species Preservation Act of 1966 (32 FR 4001, March 11, 1967) and reclassified to threatened under the Endangered Species Act of 1973 (40 FR 29863, July 16, 1975). Silver King Creek, from Llewellyn Falls downstream to Silver King Canyon, and its associated tributaries in Alpine County, California, comprise the native historical range of the Paiute cutthroat trout (Oncorhynchus clarkii seleniris) (Service 2004).

The fish now present in the Silver King Creek watershed between Llewellyn Falls and Silver King Canyon are a genetic mixture of introduced rainbow trout (O. mykiss), Lahontan cutthroat trout (O. c. henshawi), golden trout (O. aquabonita ssp.), and Paiute cutthroat trout. Hybridization with non-native trout species is the primary threat to Paiute cutthroat trout within its historical range (Service 2004). Fishery restoration efforts involving Paiute cutthroat trout span from 1950 to the present and include prior removals of non-native and hybridized fish, as well as establishing and maintaining introduced populations of genetically-pure (unhybridized) Paiute cutthroat trout. Populations of Paiute cutthroat trout have been established in several California streams outside the Silver King Creek watershed including the North Fork of Cottonwood Creek and Cabin Creek in the Inyo National Forest (Mono County), Sharktooth Creek (Fresno County), and Stairway Creek (Madera County) on the Sierra National Forest.

Genetically pure Paiute cutthroat trout are currently found in Silver King Creek upstream of Llewellyn Falls, where a previously-introduced population was restored by CDFG in the early 1990's, and in other tributaries where populations have been established within the watershed (e.g., Four Mile Creek, Fly Valley Creek, Coyote Creek and Corral Valley Creek).

The project would implement the first and second recovery actions listed in the Paiute Cutthroat Trout Revised Recovery Plan (Service 2004) which lists actions to restore, recover, and ultimately delist the species. The objective of the proposed project is to return Paiute cutthroat trout back to its historical range and establish them as the only salmonid fish species in Silver King Creek to prevent hybridization with other trout. This is an important and necessary step in preventing Paiute cutthroat trout from going extinct and also in conserving the species and restoring it to a level that would allow it to be removed from the Federal threatened species list. Under current conditions, easy public access between stream reaches downstream and upstream of Llewellyn Falls may result in a future unauthorized transplant of non-native and/or hybridized fish to areas above the falls.

Under the proposed project, the Agencies would: (1) Use chemical treatment (rotenone) to eradicate non-native trout from Silver King Creek and its tributaries between Llewellyn Falls and Silver King Canyon, as well as Tamarack Lake at the headwaters of Tamarack Lake Creek, a tributary of Silver King Creek (if fish are present); (2) Neutralize the rotenone downstream of Silver King Canyon to the 30-minute travel time mark near the confluence with Snodgrass Creek using potassium permanganate; and (3) Restock the project area with pure Paiute cutthroat trout from established donor streams in the upper Silver King Creek watershed (i.e., Fly Valley, Four Mile, Silver King Creek, or possibly Coyote Creek).

The proposed stocking of pure Paiute cutthroat trout will expand the current population size and distribution downstream from Llewellyn Falls to a series of six impassible fish barriers in Silver King Canyon and associated tributaries. These barriers, the two highest being 8 and 10 feet high, would prevent any reinvasion of non-native trout from areas downstream of the project area and greatly reduce the likelihood of and impacts from any future illegal non-native species introduction. By expanding the populations and range of the species, the project would also increase the probability of long-term viability and reduce threats from genetic bottlenecking and stochastic events.

The proposed project also includes pre-treatment removal of fish by seeking California Fish and Game Commission approval for an increased daily bag limit (harvest) that would allow anglers increased access to fishing in the project area in an attempt to reduce existing non-native trout populations; pre-treatment biological surveys and monitoring for amphibians and benthic macroinvertebrates; placement of signs to inform the public; water quality monitoring (during and post treatment); and post-treatment biological monitoring. The Agencies would apply rotenone to the project area in the summers of 2009 and 2010 (and 2011 if needed). Additional treatments would be scheduled as necessary to ensure complete removal of non-native trout from the project area.

National Environmental Policy Act Compliance

The proposed project triggers the need for compliance with the National Environmental Policy Act (NEPA). Accordingly, the Service has prepared a draft EIS/EIR that evaluates the impacts of the proposed project (Alternative 2) and also evaluates the impacts of a reasonable range of alternatives.

The draft EIS/EIR analyzes two alternatives in addition to the proposed project described above. The Service has identified the proposed project as the Preferred Alternative. Additional alternatives are described below.

Alternative 1-No Action Alternative: Under the No Action Alternative, the Service would not implement the proposed action. Instead, current stream and fishery management practices would continue into the foreseeable future. This alternative would include the continued protection of pure (unhybridized) Paiute cutthroat trout populations in Upper Fish Valley by maintaining restriction of recreational fishing on a small portion Silver King Creek downstream of Llewellyn Falls.

Alternative 3—Combined Physical Removal Alternative: This non-chemical alternative would include a combination of electrofishing, gill netting, seining, detonation cord, and other physical methods to treat Silver King Creek and its tributaries, springs, and Tamarack Lake (if fish are present). Because this alternative could have low efficiency in the rocky stream environment, it would be implemented over multiple years (i.e., until no fish are found using physical removal techniques).

Public Comments

If you wish to comment on the draft EIS/EIR you may submit your comments to the address listed in the ADDRESSES section of this document. Before including your address, phone number, e-mail address, or other personal identifying information in your comment, you should be aware that your entire comment—including your personal identifying information—may be made publicly available at any time. While you may ask us in your comment to withhold your personal identifying information from public review, we cannot guarantee that we will be able to do so.

The Service will evaluate the application, associate documents, and comments submitted to them to prepare a final EIS/EIR. Project implementation will be made no sooner than 30 days after the publication of the final EIS/EIR and completion of the Record of Decision.

This notice is provided pursuant to implementing regulations for NEPA (40 CFR 1506.6).

Dated: March 10, 2009.
Margaret Kolar,
Acting Deputy Regional Director, Region 8, Sacramento, California.

[FR Doc. E9-6098 Filed 3-19-09; 8:45 am]

BILLING CODE 4310-55-P